DEPARTMENT OF EDUCATION

Office of Safe and Drug-Free Schools—Discretionary Grant Programs

AGENCY: Office of Safe and Drug-Free Schools, Department of Education.

ACTION: Notice of final eligibility requirement.

SUMMARY: The Assistant Deputy Secretary for Safe and Drug-Free Schools announces an eligibility requirement for the following discretionary grant programs administered by the Office of Safe and Drug-Free Schools (OSDFS Discretionary Grant Programs):

• Federal Activities (CFDA No. 84.184).

• Alcohol Abuse Reduction (CFDA No. 84.184A).

• Mentoring Programs (CFDA No. 84.184B).

• Student Drug Testing (CFDA No. 84.184D).

• Emergency Response and Crisis Management (CFDA No. 84.184E).

• Grants to Prevent High-Risk Drinking or Violent Behavior Among College Students (CFDA No. 84.184H).

• Safe Schools/Healthy Students (CFDA No. 84.184L).

• Prevention Models on College Campuses (CFDA No. 84.184N).

• Grants to States to Improve Management of Drug and Violence Prevention Programs (CFDA No. 84.184R).

• Native Hawaiians (CFDA No. 84.186C).

• Elementary and Secondary School Counseling Program (CFDA No. 84.215E).

• Carol M. White Physical Education Program (CFDA No. 84.215F).

• Foundations for Learning (CFDA No. 84.215H).

• Grants to Integrate Schools and Mental Health Systems (CFDA No. 84.215M).

• Partnerships in Character Education Program (CFDA No. 84.215S/V).

• Cooperative Civic Education and Economic Education Exchange (CFDA No. 84.304A).

We may use the eligibility requirement for competitions under the OSDFS Discretionary Grant Programs in fiscal year 2007 and later years. We take this action to focus Federal financial assistance on identified national needs. We intend for the eligibility requirement to ensure an equitable distribution of awards among eligible applicants for grants under the OSDFS Discretionary Grant Programs.

DATES: Effective Date: This requirement is effective January 3, 2007.

FOR FURTHER INFORMATION CONTACT: Nicole A. White, U.S. Department of Education, 400 Maryland Avenue, SW., Washington, DC 20202-6450. Telephone: (202) 260-1131. E-mail: nicole.white@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Office of Safe and Drug-Free Schools (OSDFS) Discretionary Grant Programs provide funding to develop, implement, or expand drug and violence prevention, physical education, school counseling, mentoring, character education, civics education, and related projects at the local and State levels. In addition to providing this initial funding, OSDFS also is committed to promoting sustainability of projects and activities by encouraging grantees to seek other sources of funding and support when their project period ends.

We published a notice of proposed eligibility requirement in the Federal Register on February 23, 2006 (71 FR 9329).

With one exception, there are no differences between the notice of proposed eligibility requirement and this notice of final eligibility requirement. The exception is that the final eligibility requirement in this notice does not include the Life Skills for State and Local Prisoners program (CFDA No. 84.255A) because that program is no longer administered by the Office of Safe and Drug-Free Schools.

Analysis of Comments

In response to our invitation in the notice of proposed eligibility requirement, fourteen parties submitted comments. Eleven comments did not address the proposed eligibility requirement and are not discussed here. An analysis of the comments and of any changes in the eligibility requirement since publication of the notice of proposed eligibility requirement follows.

We group major issues according to subject. Generally, we do not address technical and other minor changes and suggested changes the law does not authorize us to make under the applicable statutory authority.

Quality of Applications

Comments: Several commenters said the quality of an application, regardless of an applicant's previous history, should be the main criterion for awarding Federal funds.

Discussion: The quality of an application is, and will remain, the principal criterion for awarding Federal funds under the Discretionary Grant Programs. However, the eligibility requirement will permit the Secretary to take previous funding history into account when determining who is eligible to compete for an award. We take this action for several reasons: First, to focus Federal financial assistance on expanding the number of programs and projects that support activities in a covered program; second, to promote rigorous assessment of results of funded projects to determine their impact on target populations and to inform future improvement efforts before making a second award under the same program; and, finally, to promote management improvement in Federal grant administration by requiring grantees to complete activities under current grants before embarking on a second grant under the same program.

Change: None.

Comment: One commenter objected to excluding current grantees from reapplying to the same program because the experience of one grant often leads to the identification of gaps that need to be addressed through a second grant.

Discussion: We agree that project implementation often results in grantees gaining a greater awareness of needs and gaps in service. For that reason, we encourage grantees to design procedures that ensure feedback and continuous improvement in the operation of their projects. By completing one full grant cycle before considering whether to apply for another award, we think grantees will achieve a better understanding of the effectiveness of their efforts and be better able to design new projects that are fully reflective of newly identified needs as well as what has been learned through their first implementation efforts.

Change: None.

Comment: One commenter expressed concern that the eligibility requirement would deny funding to the best qualified applicants and result in the selection of applications of lesser quality that are likely to have weaker outcomes.

Discussion: OSDFS grant competitions are generally highly competitive, and fractions of a point may separate funded and unfunded applications. For example, in fiscal year 2006, 88 applications submitted for the Elementary and Secondary School Counseling Program scored 90 or above, and we were able to fund only 49 of them. We do not agree, therefore, that excluding current grantees would necessarily result in poor-quality applications receiving funds.

Change: None.

Comment: Several commenters expressed strong opposition to the eligibility requirement's perceived limitation on the number of awards a grantee could have.

Discussion: The eligibility requirement will prohibit only applicants with an active grant from receiving a new grant for that same program. The requirement would have no effect on the number of grants an entity could receive under different programs. Applicants may apply for and receive grants under competitions offered by the Department under any of the 16 named programs, except for any program in which they currently have an active grant.

Change: None.

Comment: One commenter expressed concern that the eligibility requirement would have a negative impact on large school districts with a greater need for Federal funds and recommended a per-student enrollment limitation on the number of active grants one entity could receive under the same program.

Discussion: Although we understand that larger school districts may have greater needs, we do not think that multiple or overlapping grants in the same program are an appropriate means of meeting those needs because they encourage fragmentation of efforts rather than a comprehensive, unified approach to problems. All applicants, including those in larger school districts, are encouraged to carefully assess their needs and request an amount of funding commensurate with those needs in their initial application.

Change: None.

Comment: None.

Discussion: Since publication of the notice of proposed eligibility requirement, administration of the Life Skills for State and Local Prisoners program has been assigned to the Office of Vocational and Adult Education, and therefore will not be subject to the final eligibility requirement.

Change: We have removed the Life Skills for State and Local Prisoners program from the list of Discretionary Grant programs.

Note: In any year in which we elect to use the eligibility requirement, we will announce the eligibility requirement in the Federal Register notice governing the applicable grant competition.

Eligibility Requirement for OSDFS Discretionary Grant Programs—Federal Activities (CFDA No. 84.184); Alcohol Abuse Reduction (CFDA No. 84.184A); Mentoring Programs (CFDA No. 84.184B); Student Drug Testing (CFDA No. 84.184D); Emergency Response and Crisis Management (CFDA No. 84.184E); Grants to Prevent High-Risk Drinking or Violent Behavior Among College Students (CFDA No. 84.184H); Safe Schools/Healthy Students (CFDA No. 84.184L); Prevention Models on College Campuses (CFDA No. 84.184N); Grants to States to Improve Management of Drug and Violence Prevention Programs (CFDA No. 84.184R); Native Hawaiians (CFDA No. 84.186C); Elementary and Secondary School Counseling Program (CFDA No. 84.215E); Carol M. White Physical Education Program (CFDA No. 84.215F); Foundations for Learning (CFDA No. 84.215H); Grants to Integrate Schools and Mental Health Systems (CFDA No. 84.215M); Partnerships in Character Education (CFDA No. 84.215S/V); Cooperative Civic Education and Economic Education Exchange (CFDA No. 84.304A)

Active Grants

Under this requirement, the Secretary limits eligibility under the discretionary grant program competition to applicants that do not currently have an active grant under the same discretionary grant program. For the purpose of this eligibility requirement, a grant is considered active until the end of the grant's project or funding period, including any extensions of those periods that extend the grantee's authority to obligate funds.

Executive Order 12866

This notice of final eligibility requirement has been reviewed in accordance with Executive Order 12866. Under the terms of the order, we have assessed the potential costs and benefits of this regulatory action.

The potential costs associated with this notice of final eligibility requirement are those we have determined as necessary for administering this program effectively and efficiently. The benefit of this final eligibility requirement is to ensure that limited Federal financial assistance under the Discretionary Grant Programs is made available in a manner that is fair and equitable to the greatest number of applicants.

In assessing the potential costs and benefits—both quantitative and qualitative—of this notice of final eligibility requirement, we have determined that the benefits of the final eligibility requirement justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access To This Document

You may view this document, as well as all other documents of this Department published in the Federal Register, in text or Adobe Portable Document Format (PDF) on the Internet at the following site: http://www.ed.gov/news/fedregister.

To use PDF, you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1211-2 (1991), 6715, 7117, 7131, 7139, 7140, 7245, 7247, 7261, 7269, and 7269a.

Dated: November 28, 2006.
Deborah A. Price,
Assistant Deputy Secretary for Safe and Drug-Free Schools.

[FR Doc. E6-20456 Filed 12-1-06; 8:45 am]

BILLING CODE 4000-01-P